DEPARTMENT OF HEALTH AND HUMAN SERVICES

Office of the Secretary

Agency Information Collection Activities; Proposed Collections; Comment Request

The Department of Health and Human Services, Office of the Secretary will periodically publish summaries of proposed information collections projects and solicit public comments in compliance with the requirements of section 3506(c)(2)(A) of the Paperwork Reduction Act of 1995. To request more information on the project or to obtain a copy of the information collection plans and instruments, call the OS Reports Clearance Officer on (202) 690-6207.

Comments are invited on: (a) Whether the proposed collection of information is necessary for the proper performance of the functions of the agency, including whether the information shall have practical utility; (b) the accuracy of the agency's estimate of the burden of the proposed collection of information; (c) ways to enhance the quality, utility and clarity of the information to be collected; and (c) ways to enhance the quality, utility and clarity of the information to be collected; and (d) ways to minimize the burden of the collection of information on respondents, including through the use of automated collection techniques or other forms of information technology.

1. HHS Acquisition Regulation (HHSAR) Part 342—Contract Administration—0990-0131—Extension with no change—HHSAR 342.7103 requires reporting information when a cost overrun is anticipated. The information is used to determine if a proposed overrun is reasonable. Respondents: State or local governments, business, or other for-profit, non-profit institutions, small business; Number of respondents: 215; Average burden per response: 20 hours; Total burden: 4,300 hours.

2. HHS Acquisition Regulations (HHSAR Part 333 Disputes and Appeals—0990-0133—Extension with no change—The Litigation and Claims clause is needed to inform the government of actions filed against government contracts. Respondents: State or local governments, business or other for-profit institutions, small business; Number of respondents: 86; Average burden per response: 30 minutes; Total burden: 43 hours.

3. HHS Acquisition Regulation (HHSAR) Part 332—Contract Financing—0990-0134—Extension with no change—The requirements of HHSAR Part 332 are needed to ascertain costs associated with certain contracts so as to timely pay contractors. Respondents: State or local governments, small businesses; Number of respondents: 226; Average burden per response: one hours; Total burden: 226 hours.

4. HHS Acquisition Regulation (HHSAR) Part 324—Protection of Privacy and Freedom of Information—0990-0136—Extension with no change—The confidentiality of information requirements are needed to prevent improper disclosure of confidential data. Respondents: State of local governments, business or other for-profit, non-profit institutions, small businesses; Number of respondents: 638; Average burden per response: 8 hours; Total burden: 5,104 hours.

5. HHS Acquisition Regulation (HHSAR) Part 316—Types of Contracts—0990-0138—Extension with no change— The negotiated Overhead Rate—Fixed clause is needed since fixed rates are authorized by OMB Circular and a clause is not provided in the Federal Acquisition Regulation (FAR). Respondents: non-profit institutions; Number of respondents: 520: Average burden per response: 10 hours; total burden: 5,200 hours.

6. Uniform Administrative Requirements for Grants and Cooperative Agreements to State and Local Governments—0990-0169—Extension with no change—Pre-award, post-award, and subsequent reporting and recordkeeping requirements are necessary to award, monitor, close out and manage grant programs, ensure minimum fiscal control and accountability for Federal funds and deter fraud, waste and abuse. Respondents: State and local governments; Number of respondents: 4,000; Average burden per response: 70 hours; Total burden: 280,000 hours.

7. HHS Acquisition Regulation (HHSAR) Part 370—Special Programs Affecting Acquisition—0990-0129—Extension with no change—Establishes requirements for the accessibility of meetings, conferences, and seminars to persons with disabilities; establishes requirements for Indian Preference in employment, training and subcontracting opportunities. Respondents: State or local governments, businesses or other for-profit, non-profit institutions, small businesses; Burden Information about Accessibility of Meetings—Annual number of respondents: 335; Average burden per response: 10 hours; Total annual number of respondents: 932; Average burden per response; 8 hours; Total annual burden: 7,456 hours—Total Burden: 10,806 hours.

8. HHS Acquisition Regulation (HHSAR) Part 352—Solicitation Provisions and Contract Clauses—0990-0130—Extension with no change—The Key Personnel clause in HHSAR 352.27-5 requires contractors to obtain approval before substituting key personnel which are specified in the contract. Respondents: State or local governments, businesses or other for-profit, non-profit institutions, small businesses; Total number of respondents: 1,921; Average burden per response: 2 hours; Total burden: 3,842 hours.

Send comments to Cynthia Agents Bauer, OS Reports Clearance Officer, Room 503H, Humphrey Building, 200 Independence Avenue, SW., Washington DC, 20201. Written comments should be received within 60 days of this notice.

Dated: July 16, 2002.
Kerry Weems,
Deputy Assistant Secretary, Budget.

[FR Doc. 02-18622 Filed 7-23-02; 8:45 am]

BILLING CODE 4151-17-M